DEPARTMENT OF DEFENSE

Defense Acquisition Regulations System

48 CFR Parts 201, 203, 204, 215, 219, 245, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective Date: December 31, 2012.

FOR FURTHER INFORMATION CONTACT: Mr. Manuel Quinones, Defense Acquisition Regulations System, OUSD(AT&L)DPAP(DARS), Room 3B855, 3060 Defense Pentagon, Washington, DC 20301-3060. Telephone 571-372-6088; facsimile 571-372-6094.

SUPPLEMENTARY INFORMATION:

This final rule amends the DFARS as follows:

1. Corrects fax number at 201.201-1(d)(i).

2. Corrects DODOIG address at 203.1003.

3. Corrects typographical error at 204.1104. Redesignates 204.1104 as 204.1105 to correctly align with FAR 4.1105;

4. Clarifies terminology at 204.7102 and 204.7106 relating to contract line items.

5. Updates DPAP directorate office symbol at 215.403-1(c)(4)(B).

6. Corrects cross-reference to PGI at 219.202-1.

7. Redesignates 245.103(1) as 245.103-70, redesignates 245.103(2) as 245.103-71, adds new 245.103-72 and 103-73 to direct contracting officers to additional DFARS procedures, guidance, and information at PGI 245.103-72 and PGI 245.103-73 respectively.

8. Removes 245.201-71 and 245.201.72, and redesignates 245.201-73 as 245.201-71 Security Classification.

9. Corrects address of the DoD Office of Inspector General (DODOIG) at 252.203-7003;

10. Removes DODOIG address at 252.203.7004 and adds a hyperlink to obtain Hotline posters; and

11. Corrects title of statute and clause date at 252.227-7037 and 252.227-7038.

12. Corrects typographical error at 252.247-7023;

List of Subjects in 48 CFR Parts 201, 203, 204, 215, 219, 245, and 252

Government procurement.

Manuel Quinones,
Editor, Defense Acquisition Regulations System.

Therefore, 48 CFR parts 201, 203, 204, 215, 219, 245, and 252 are amended as follows:

1. The authority citation for 48 CFR parts 201, 203, 204, 215, 219, 245, and 252 continue to read as follows:

Authority: 41 U.S.C. 1303 and 48 CFR chapter 1.

PART 201—FEDERAL ACQUISITION REGULATIONS SYSTEM

201.201-1 [Amended]

2. Section 201.201-1 paragraph (d)(i) is amended by removing “datafax (703) 602-0350” and adding “datafax (571) 372-6094” in its place.

PART 203—IMPROPER BUSINESS PRACTICES AND PERSONAL CONFLICTS OF INTEREST

3. Section 203.1003 is revised to read as follows:

203.1003 Requirements.

(b) Notification of possible contractor violation. Upon notification of a possible contractor violation of the type described in FAR 3.1003(b), coordinate the matter with the following office:

Department of Defense Office of Inspector General, Investigative Policy and Oversight Contractor Disclosure Program, 4800 Mark Center Drive, Suite 11H25, Arlington, VA 22350-1500.

Toll-Free Telephone: 866-429-8011.

PART 204—ADMINISTRATIVE MATTERS

204.1104 [Redesignated as 204.1105]

4. Section 204.1104 is redesignated as section 204.1105.

204.7102 [Amended]

5. Section 204.7102 paragraph (a)(6) is amended by removing ““Exhibit line and subline items; and” and adding “Exhibit line items; and” in its place.

204.7106 [Amended]

6. Section 204.7106 is amended by—

a. In paragraph (b)(2)(i)(C), removing “contract or exhibit line item or subline item” and adding “contract line item or subline item or exhibit line item” in its place wherever it appears; and

b. In paragraphs (b)(2)(ii)(B), (b)(2)(ii)(C) and (b)(2)(ii)(D), removing “contract or exhibit line item or subline item” and adding “contract line item or subline item or exhibit line item” in its place wherever it appears.

PART 215—CONTRACTING BY NEGOTIATION

215.403-1 [Amended]

7. Section 215.403-1 paragraph (c)(4)(B) is amended by removing “DPAP/CPF” and adding “DPAP/CPIC” in its place.

PART 219—SMALL BUSINESS PROGRAMS

219.202-1 [Amended]

8. Section 219.202-1 is amended by removing “PGI 205.207(d)(iii)” and adding “PGI 205.207(d)(ii)” in its place.

PART 245—GOVERNMENT PROPERTY

245.103 [Amended]

9a. Section 245.103 is amended by redesignating 245.103(1) as 245.103-70 and 245.103(2) as 245.103-71;

9b. A section heading is added to section 245.103-70 to read as follows:

245.103-70 Furnishing Government property to contractors.

9c. A section heading is added to section 245.103-71 to read as follows:

245.103-71 Transferring Government property accountability.

9d. Add new sections 245.103-72 and 245.103-73 to read as follows:

245.103-72 Government-furnished property attachments to solicitations and awards.

When performance will require the use of Government-furnished property, contracting officers shall use the fillable electronic “Requisitioned Government Furnished Property” and/or “Scheduled Government Furnished Property” formats as attachments to solicitations and awards. See PGI 245-103-72 for links to the formats and procedures for preparing Government-furnished property attachments to solicitations and awards.

245.103-73 Contracting office responsibilities.

See PGI 245.103-73 for contracting office responsibilities.

Subpart 245.2 Solicitation and Evaluation Procedures

245.201-71 and 245.201-72 [Removed]

10a. Remove 245.201-71 and 245.201-72.

245.201-73 [Redesignated and amended]

10b. Redesignate 245.201-73 as 245.201-71, and in newly designated 245.201-71, remove “PGI 245.201-73” and add “PGI 245.201-71” in its place.

PART 252—SOLICITATION PROVISIONS AND CONTRACT CLAUSES

252.203.7003 [Amended]

11. Section 252.203-7003 is revised as follows:

252.203-7003 Agency Office of the Inspector General.

As prescribed in 203.1004(a), use the following clause:

AGENCY OFFICE OF THE INSPECTOR GENERAL (DEC 2012)

The agency office of the Inspector General referenced in paragraphs (c) and (d) of FAR clause 52.203-13, Contractor Code of Business Ethics and Conduct, is the DoD Office of Inspector General at the following address:

Department of Defense Office of Inspector General, Investigative Policy and Oversight, Contractor Disclosure Program, 4800 Mark Center Drive, Suite 11H25, Alexandria, VA 22350-1500.

Toll Free Telephone: 866-429-8011.

(End of clause)

12. Section 252.203-7004 is amended by—

a. Removing clause date “(SEP 2011)” and adding “(DEC 2012)” in its place; and

b. Revising paragraph (b)(1) to read as follows:

252.203-7004 Display of fraud hotline poster(s).

* * * * *

(b) * * *

(1) The Contractor shall display prominently in common work areas within business segments performing work in the United States under Department of Defense (DoD) contracts DoD hotline posters prepared by the DoD Office of the Inspector General. DoD hotline posters may be obtained via the Internet at http://www.dodig.mil/HOTLINE/hotline_posters.htm.

* * * * *

252.227-7037 [Amended]

13. Section 252.227-7037 is amended—

a. By removing the clause date “(APR 2012)” and adding “(JUN 2012)” in its place;

b. In paragraph (e)(3), by removing “the Contract Disputes Act of 1978 (41 U.S.C. 7101)” and adding “41 U.S.C. 7101, Contract Disputes” in its place; and

c. In paragraph (g)(2)(iv), removing “Act” and adding “statute” in its place.

252.227-7038 [Amended]

14. Section 252.227-7038 is amended by removing the clause date “(DEC 2007)” and adding “(JUN 2012)” in its place and in paragraph (l)(2)(ii), by removing “Act” and adding “statute” in its place.

252.247-7023 [Amended]

15. Section 252.247-7023 introductory text is amended by removing “As prescribed in 247.573(b)(1)” and adding “As prescribed in 247.574(b)(1)”.

[FR Doc. 2012-31092 Filed 12-28-12; 8:45 am]

BILLING CODE 5001-06-P